DEPARTMENT OF COMMERCE

National Oceanic and Atmospheric Administration

50 CFR Part 648

[I.D. 082901A]

Fisheries of the Northeastern United States; Supplemental Environmental Impact Statements (SEISs) for the Essential Fish Habitat (EFH) Components of the Monkfish, Atlantic Herring, and Atlantic Salmon Fishery Management Plans (FMPs); Change of Date Time, and Location for Public Scoping Meeting and Extension of Public Comment Period

AGENCY: National Marine Fisheries Service (NMFS), National Oceanic and Atmospheric Administration (NOAA), Commerce.

ACTION: Change in date, time, and location of public scoping meeting and extension of public comment period.

SUMMARY: NMFS recently announced its intent to prepare SEISs in accordance with the National Environmental Policy Act of 1969 (NEPA) for the EFH components of the Monkfish, Atlantic Herring, and Atlantic Salmon FMPs. NMFS will hold a public scoping meeting and accept written comments to determine the range of management alternatives to be addressed in the SEISs to describe and identify EFH for these fisheries, minimize to the extent practicable the adverse effects of fishing on EFH, and identify other actions to encourage the conservation and enhancement of EFH. NMFS is changing the date, time and location of the public scoping meeting and extending the public comment period.

DATES: NMFS will accept written comments through November 21, 2001. The public scoping meeting will be held on November 7, 2001, at 7 p.m.

ADDRESSES: Written comments on the intent to prepare the SEISs and requests for the scoping document or other information should be directed to the National Marine Fisheries Service, One Blackburn Drive, Gloucester, MA 01930, Attn: Louis A. Chiarella. Comments may also be sent via facsimile (fax) to (978) 281-9301. NMFS will not accept unsigned faxes or comments by e-mail. The public scoping meeting will be held at the Friend Room, Sawyer Free Library, 2 Dale Ave., Gloucester, MA.

FOR FURTHER INFORMATION CONTACT: Louis A. Chiarella, Essential Fish Habitat Coordinator, 978-281-9277, fax 978-281-9301, e-mail Lou.Chiarella@noaa.gov.

SUPPLEMENTARY INFORMATION: On September 10, 2001 (66 FR 46979), NMFS published notification of its intention to prepare SEISs for the EFH components of the Monkfish, Atlantic Herring, and Atlantic Salmon FMPs. See the September 10, 2001, Federal Register notification for background and scoping information related to the development of these SEISs. NMFS is changing the time and date of the public scoping meeting as detailed below. The meeting is being postponed because the original schedule conflicted with a New England Fishery Management Council meeting. The comment period is being extended to allow sufficient time for the public to develop written comments after the postponed scoping meeting is held.

Special Accommodations

This meeting is physically accessible to people with disabilities. Requests for sign language interpretation or other auxiliary aids should be directed to Louis A. Chiarella (see FOR FURTHER INFORMATION CONTACT) at least 5 days prior to the meeting date.

Authority: 16 U.S.C. 1801 et seq.

Dated: September 18, 2001.
Bruce C. Morehead,
Acting Director, Office of Sustainable Fisheries, National Marine Fisheries Service.

[FR Doc. 01-23796 Filed 9-21-01; 1:49 pm]

BILLING CODE 3510-22-S